DEPARTMENT OF HEALTH AND HUMAN SERVICES

Centers for Disease Control and Prevention

[60Day-20-1158; Docket No. CDC-2019-0095]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled CDC Ideation Catalyst (I-Catalyst) Program and Customer Engagement Information Collection. CDC will collect qualitative information from potential customers and other stakeholders about their needs and preferred approaches to solving public health problems. Findings will be used to improve customer satisfaction with, and usability of, CDC's products, programs, and services.

DATES: CDC must receive written comments on or before December 24, 2019.

ADDRESSES: You may submit comments, identified by Docket No. CDC-2019-0095 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

CDC Ideation Catalyst (I-Catalyst) Program and Customer Engagement Information Collection (OMB Control No. 0920-1158, Exp. 1/31/2020)—Revision—Office of Science (OS), Centers for Disease Control and Prevention (CDC).

Background and Brief Description

The CDC Office of Technology and Innovation (OTI) within Office of Science (OS) fosters innovative science and promotes the testing and implementation of innovative ideas that improve CDC's ability to have public health impact. To arm CDC staff with an expanded skill-set and tools to evaluate and translate their insights and ideas into solutions, CDC developed an experiential innovation curriculum called Ideation Catalyst (I-Catalyst). The program was created with the belief that innovation should be customer-driven, be based on user research, and is something people at all levels of an organization can engage in. CDC also obtained OMB approval for a generic clearance to support the collection of information from stakeholders and customers, utilizing I-Catalyst program principles and methodology (CDC I-Catalyst Program, OMB Control No. 0920-1158, Exp. date 1/31/2020).

The goal of the I-Catalyst program is to help CDC employees test and explore their ideas through a discovery, ideation, and prototyping process. I-Catalyst offers a process for defining problems and developing strategies to solutions that will help improve the quality and efficiency of innovation efforts and, as a result, overall performance. Through the I-Catalyst Program, teams work to define and articulate their problem space to find effective solutions and CDC programs receive consultation from OTI staff to implement the I-Catalyst process with specific projects. Participating teams will go through a hypothesis-testing, scientific method of discovery to gather important insights and identify issues associated with their projects. Teams are forced “out of the classroom” to conduct interviews, study customer/stakeholder needs, collect feedback, and find partnership opportunities. It is expected that participants will gain the ability to evaluate and translate their insights into solutions.

The I-Catalyst process provides CDC staff with real-world, hands-on entrepreneurship training and consultation from OTI staff. Through I-Catalyst, CDC staff make hypotheses about how the world works, and then test them by getting out of the building and talking to customers and/or stakeholders. Only conversations with potential customers/stakeholders can provide the facts from which hypotheses are proven or disproven about whether a solution (whether a product, process, etc.) creates value for the intended beneficiaries. Participants have to go out into the world and learn by doing. I-Catalyst methods engage customers/stakeholders in a process that will identify what they most value and need, and source solutions that will have high levels of efficacy and user acceptability.

The majority of data will be obtained through on-site, unstructured interviews with individuals who represent the customers or stakeholders CDC teams are attempting to serve or benefit. CDC may also collect information through telephone interviews, questionnaires, or web-based surveys. With each CDC program project, teams will interview their customers/stakeholders with a burden per response ranging from 20-60 minutes (an average of 30 minutes). Each team will interview approximately 25 respondents. With 10-20 teams participating annually and CDC program consultations, approximately 500 respondents will be interviewed. Data to be collected includes information regarding needs, values, and barriers, and facilitators to potential solutions.

CDC expects that teams participating in the I-Catalyst process and OTI consultations will be empowered to implement innovative strategies and solutions that create value for a set of beneficiaries. The ultimate goal is to give CDC staff skills to successfully transfer knowledge into value-based solutions that benefit society and broaden the agency's impact.

In this Revision request, CDC seeks approval for minor changes to the I-Catalyst generic clearance. The number of burden hours will decrease based on participation in the I-Catalyst training program during the period 2017-2019. However, through related technical assistance provided by OTI to CDC/ATSDR programs, CDC has identified additional opportunities for information collection compatible with I-Catalyst goals and methods. During the next three-year period CDC anticipates utilization of the I-Catalyst generic clearance by previous participants in the I-Catalyst training program, as well as other CDC programs implementing customer discovery projects. The title of the clearance is being updated to reflect its use by additional CDC/ATSDR project teams approved by OTI. The I-Catalyst clearance will continue to be used for information collections necessary to explore the needs and preferences of specific stakeholder groups, and to facilitate and improve the acceptance and usability of CDC products, programs, and technologies. All projects submitted to OMB for approval under the I-Catalyst generic clearance will be consistent with CDC/OTI goals for promoting scientific innovation, customer engagement, and entrepreneurship in public health.

OMB approval is requested for three years. Individual projects must be approved by CDC's OTI before they are submitted to OMB for final review and approval. CDC estimates the estimated annual burden hours to be 250. Participation is voluntary, and there are no costs to respondents other than their time.

Estimated Annualized Burden Hours
Type of respondents | Form name | Number of respondents | Number of responses per respondent | Avg. burden per response (in hrs.) | Total burden (in hrs.)
External Partners, Stakeholders, or Customers | Interview Guides, Questionnaires, and Surveys | 500 | 1 | 30/60 | 250
Total |  |  |  |  | 250

Jeffrey M. Zirger,
Lead, Information Collection Review Office, Office of Scientific Integrity, Office of Science, Centers for Disease Control and Prevention.

[FR Doc. 2019-23366 Filed 10-24-19; 8:45 am]

BILLING CODE 4163-18-P